DEPARTMENT OF HOMELAND SECURITY

Coast Guard

[Docket No. USCG-2007-28745]

Merchant Marine Personnel Advisory Committee

AGENCY: Coast Guard, DHS.

ACTION: Supplemental notice of meetings.

SUMMARY: On Tuesday, July 24, 2007, the Coast Guard published its intent to hold meetings of the Merchant Marine Personnel Advisory Committee. This supplemental notice makes an addition to the previous one.

Agendas of Meetings

Agenda of Meeting on September 11, 2007 Originally Published at 72 FR 40321

In addition to addressing the Task Statements listed in the July 24, 2007, notice, a working group will address a new Task Statement concerning “A Review of the Draft Navigation and Vessel Inspection Circular (NVIC) Concerning Medical and Physical Evaluation Guidelines for Merchant Mariner Credentials.” The working group will make a report to the full committee on what has been accomplished in their meeting. No action will be taken on their report on this date.

Agenda of Meeting on September 12, 2007 Originally Published at 72 FR 40321

In addition to the agenda published in the July 24, 2007, notice, the committee may consider and vote on any recommendations from the working group deliberating the new Task Statement concerning “Review of the Draft NVIC Concerning Medical and Physical Evaluation Guidelines for Merchant Mariner Credentials.”

Dated: August 24, 2007.
J. G. Lantz,
Director of National and International Standards, Assistant Commandant for Prevention—Operations.

[FR Doc. E7-17568 Filed 9-5-07; 8:45 am]

BILLING CODE 4910-15-P